GENERAL SERVICES ADMINISTRATION

[Notice-FTR 2013-02; Docket 2013-0002; Sequence 14]

Federal Travel Regulation (FTR); Relocation Allowance—Relocation Income Tax (RIT) Allowable Tables

AGENCY: Office of Governmentwide Policy (OGP), General Services Administration (GSA).

ACTION: Notice of bulletin 13-05.

SUMMARY: The GSA published FTR Amendment 2008-04, in the Federal Register on June 25, 2008 (73 FR 35952), specifying that GSA would no longer publish the RIT Allowance tables in Title 41 of the Code of Federal Regulation (CFR) part 302-17, Appendices A through D; instead, the tables would be available on a GSA Web site. The purpose of this notice is to inform agencies that FTR Bulletin 13-05 is now available and provides the annual changes to the RIT allowance tables necessary for calculating the amount of a transferee's increased tax burden due to his or her official permanent change of station. FTR Bulletin 13-05 and all other FTR Bulletins can be found at www.gsa.gov/ftrbulletin.

DATES: Effective date: This notice is effective April 17, 2013.

FOR FURTHER INFORMATION CONTACT: Please contact Mr. Ed Davis, Office of Asset and Transportation Management (MA), Office of Government-wide Policy, GSA, at (202) 208-7638 or via email at ed.davis@gsa.gov. Please cite FTR Bulletin 13-05.

Dated: April 13, 2013.
Carolyn Austin-Diggs,
Principal Deputy Administrator, Office of Asset and Transportation Management, Office of Governmentwide Policy.

[FR Doc. 2013-10807 Filed 5-6-13; 8:45 am]

BILLING CODE 6820-14-P